DEPARTMENT OF THE INTERIOR

Bureau of Land Management

[LLIDI01000-10-L12200000.EB0000]

Notice of Intent To Collect Fees on Public Land in Fremont County, Idaho, Upper Snake Field Office Under the Federal Lands Enhancement Act

AGENCY: Bureau of Land Management, Interior.

ACTION: Notice of intent.

SUMMARY: In accordance with the Federal Lands Recreation Enhancement Act (REA), the Upper Snake Field Office will begin collecting fees for the day use area and a fee for use of the Recreational Vehicle dump station at Egin Lakes Access Recreation Site (Egin). The day use fee will be $5 per day for the use of the area, and $10 per use of the recreational vehicle dump station. A $60 season pass will be available. The site is located in Fremont County, Idaho.

DATES: Effective Date: There will be a public comment period that will expire on November 8, 2010. The BLM welcomes public comments on this proposal, and the public is encouraged to participate by submitting their comments on fee collection at this site. Six months after the publication of this notice, the Upper Snake Field Office will initiate fee collection in the day use area at Egin, unless the BLM publishes a notice to the contrary in the Federal Register. A recreation fee business plan for Egin was completed and reviewed by the Idaho Falls District Resource Advisory Council (RAC). The RAC provided a recommendation to the Upper Snake Field Office affirming the proposal to collect fees at the Egin Day Use Area.

ADDRESSES: Mail comments to: Field Manager, Upper Snake Field Office, Bureau of Land Management, 1405 Hollipark Drive, Idaho Falls, Idaho 83401.

FOR FURTHER INFORMATION CONTACT: Upper Snake Field Office, Bureau of Land Management, 1405 Hollipark Drive, Idaho Falls, Idaho 83401, telephone: (208) 524-7500.

SUPPLEMENTARY INFORMATION: The Egin Day Use Area, which provides developed parking and other amenities to visitors wishing to recreate on the St. Anthony Sand Dunes, is located in Township 7 N., Range 39 E., Section 3, N ½, NW ¼ SW ¼, Boise Meridian. Pursuant to REA, 16 U.S.C. 6801 et seq., and implementing regulations in 43 CFR part 2933, fees may be charged for day use that occurs in a highly developed, highly visited recreation area. The Egin Day Use Area qualifies as a “standard amenity recreation fee area” under 16 U.S.C. 6802(f); therefore, a recreation fee may be charged for use of the area. Fee collection at the Egin Day Use Area is consistent with the Medicine Lodge Resource Management Plan (1985), and the Egin Lakes Area was identified and analyzed for day and overnight use fees in the environmental assessment prepared pursuant to the requirements of the National Environmental Policy Act for the Egin Lakes Project Site Plan (2001). Fees for use of the campground have been collected for years and will continue. Specific visitor fees will be identified and posted at the sites. This notice announces that visitors must purchase a recreation use permit as described in 43 CFR 2933 for day use and pay a separate fee to use the recreational vehicle dump station. Fees must be paid at the self-service pay station located at the Egin Day Use Area. Holders of an America the Beautiful-The National Parks and Federal Recreation Lands Interagency Annual Pass, Interagency Senior or Access Pass, Interagency Access Pass, or an InteragencyVolunteer Pass will have all day use fees waived.

The BLM is committed to providing and receiving fair value for the use of developed recreation facilities and services in a manner that meets public use demands, provides quality experiences, and protects important resources. Day use fees collected at the Egin Lakes Day Use Area will help ensure funding for the maintenance of existing facilities, and providing recreational opportunities and resource protection.

The BLM will report to the RAC each year on how the revenue from these fees has been used. A copy of this report will be available to the public at the Upper Snake River Field Office at the address listed in the ADDRESSES section above.

Future adjustments in the fee amount will be made in accordance with the Egin Lakes Access Recreation Site Business Plan, consultation with the RAC, and through public notice and comment.

Authority: 16 U.S.C. 6803(b).

Wendy Reynolds,
Field Manager, Upper Snake Field Office, Bureau of Land Management.

[FR Doc. 2010-25359 Filed 10-6-10; 8:45 am]

BILLING CODE 4310-GG-P